DEPARTMENT OF THE INTERIOR

Bureau of Land Management

[WO-350-1430-PE-01-24-1A]

OMB Approval Number 1004-0011; Notice of Information Collection To Be Submitted to the Office of Management and Budget for Review Under the Paperwork Reduction Act

The Bureau of Land Management (BLM) has submitted the proposed collection of information listed below to the Office of Management and Budget (OMB) for approval under the provisions of the Paperwork Reduction Act (44 U.S.C. 3501 et. seq.) On March 20, 2000, the BLM published a notice in the Federal Register (65 FR 15002) requesting comment on this proposed collection. The comment period ended on May 19, 2000. The BLM received no comments from the public in response to that notice. Copies of the proposed collection of information and related forms and explanatory material may be obtained by contacting the BLM information clearance officer at the telephone number listed below; (202) 452-5033.

The OMB is requested to respond to this request within 60 days but may respond after 30 days. For maximum consideration your comments and suggestions on the requirements should be made within 30 days directly to the Office of Management and Budget, Interior Department Desk Officer (1004-0011), Office of Information and Regulatory Affairs, Washington, DC, 20503, telephone (202) 395-7340. Please provide a copy of your comments to the Bureau Clearance Officer (WO-630), 1849 C St., NW., Mail Stop 401 LS, Washington, DC 20240.

Nature of Comments: We specifically request your comments on the following:

1. Whether the collection of information is necessary for the proper functioning of the BLM, including whether the information will have practical utility;

2. The accuracy of the BLM's estimate of the burden of collection the information, including the validity of the methodology and assumptions used;

3. The quality, utility and clarity of the information to be collected; and

4. How to minimize the burden of collecting the information on those who are to respond, including the use of appropriate automated electronic, mechanical, or other forms of information technology.

Title: Color-of-Title (43 CFR part 2540). OMB approval number: 1004-0011.

Abstract: The BLM is proposing to renew the approval of an information collection for an existing rule at 43 CFR part 2540. That rule provides guidelines and procedures for transferring legal title to public lands administered by the BLM from the United States to eligible individuals, groups, or corporations who have valid claims under the Color-of-Title Act of December 22, 1928 (45 Stat. 1069) as amended by the Act of July 28, 1953 Stat. 227), (U.S.C. 1068-1068b).

Bureau Form Number: 2540-3.

Frequency: Once.

Description of Respondents: Respondents are individuals, groups, or corporations.

Estimated Completion Time: 1 hour.

Annual Response: 20.

Filing Fee Per Response: $10.

Annual Burden Hours: 20.

Bureau Clearance Officer: Shirlean Beshir (202) 452-5033.

Dated: June 23, 2000.
Shirlean Beshir,
Acting BLM Information Clearance Officer.

[FR Doc. 00-17088 Filed 7-5-00; 8:45 am]

BILLING CODE 4310-84-M